DEPARTMENT OF STATE

[Public Notice: 11303]

In the Matter of the Amendment of the Designation of Lashkar i Jhangvi (and Other Aliases) as a Specially Designated Global Terrorist

Based upon a review of the administrative record assembled in this matter, and in consultation with the Attorney General and the Secretary of the Treasury, I have concluded that there is a sufficient factual basis to find that Lashkar i Jhangvi, uses the additional alias Lashkar e Jhangvi al-Alami, also known as Lashkar e Jhangvi al-Almi, also known as LeJ al-Alami.

Therefore, pursuant to Section 1(b) of Executive Order 13224, I hereby amend the designation of Lashkar i Jhangvi as a Specially Designated Global Terrorist to include the following new aliases: Lashkar e Jhangvi al-Alami, Lashkar e Jhangvi al-Almi, and LeJ al-Alami.

This notice shall be published in the Federal Register.

Dated: December 22, 2020.
Michael R. Pompeo,
Secretary of State.

[FR Doc. 2021-00606 Filed 1-13-21; 8:45 am]

BILLING CODE 4710-AD-P